DEPARTMENT OF THE INTERIOR

National Park Service

[NPS-WASO-NAGPRA-NPS0040365; PPWOCRADN0-PCU00RP14.R50000]

Notice of Intended Repatriation: University of California, Riverside, Riverside, CA

AGENCY: National Park Service, Interior.

ACTION: Notice.

SUMMARY: In accordance with the Native American Graves Protection and Repatriation Act (NAGPRA), the University of California, Riverside intends to repatriate certain cultural items that meet the definition of objects of cultural patrimony and that have a cultural affiliation with the Indian Tribes or Native Hawaiian organizations in this notice.

DATES: Repatriation of the cultural items in this notice may occur on or after July 16, 2025.

ADDRESSES: Send additional, written requests for repatriation of the cultural items in this notice to Megan Murphy, University of California, Riverside, 900 University Avenue, Riverside, CA 92517-5900, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the summary or related records. The National Park Service is not responsible for the determinations in this notice.

Abstract of Information Available

A total of eight cultural items have been requested for repatriation. The eight objects of cultural patrimony are two lots of ceramics, one lot of glass, one lot of metal, one lot of animal bone, one lot of manos, one lot of arrowheads, and one lot of geological materials.

In 1982, archaeological site CA-RIV-1430 was recorded by the Archaeological Resource Management Corporation. It was located in Fallbrook and was described by archaeologists as a midden site with a series of rockshelters. The rockshelters contained ceramic ollas, shell, debitage, and grinding tools. One of the rockshelters also had pictographs on the interior walls. During the survey two cottonwood arrowhead points and several potsherds were removed from the rockshelters. The objects were subsequently housed at the University of California, Riverside under accession number 87.

In 1981, archaeological site CA-RIV-2248 was recorded by the Archaeological Resource Management Corporation. The site was located in Wildomar and was described by archaeologists as a seasonal campsite. During the survey one lot of manos were removed from the surface and subsequently housed at the University of California, Riverside under accession number 88.

In 1991, the University of California, Riverside Archaeological Research Unit was contracted to conduct an archaeological assessment of a tract of land in the Pedley Hills section of the Jurupa Hills in western Riverside County ahead of proposed development by a private investments firm. During a pedestrian survey of the project area, historic site CA-RIV-4270 was identified. The site consisted of a surface scatter of historic glass and metal which archaeologists determined to be of pre-WWII manufacture. Approximately 195 objects were removed from the site including one lot of ceramics, one lot of glass, one lot of metal, one lot of animal bone, and one lot of geological materials.

Determinations

The University of California, Riverside has determined that:

• The eight objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Pechanga Band of Indians (previously listed as Pechanga Band of Luiseno Mission Indians of the Pechanga Reservation, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 16, 2025. If competing requests for repatriation are received, the University of California, Riverside must determine the most appropriate requestor prior to repatriation. Requests for joint repatriation of the cultural items are considered a single request and not competing requests. The University of California, Riverside is responsible for sending a copy of this notice to the Indian Tribes and Native Hawaiian organizations identified in this notice and to any other consulting parties.

Authority: Native American Graves Protection and Repatriation Act, 25 U.S.C. 3004 and the implementing regulations, 43 CFR 10.9.

Dated: June 6, 2025.
Melanie O'Brien,
Manager, National NAGPRA Program.

[FR Doc. 2025-11012 Filed 6-13-25; 8:45 am]

BILLING CODE 4312-52-P